DEPARTMENT OF THE INTERIOR

National Park Service

[NPS-WASO-NRNHL-DTS#-32595; PPWOCRADI0, PCU00RP14.R50000]

National Register of Historic Places; Notification of Pending Nominations and Related Actions

AGENCY: National Park Service, Interior.

ACTION: Notice.

SUMMARY: The National Park Service is soliciting electronic comments on the significance of properties nominated before September 4, 2021, for listing or related actions in the National Register of Historic Places.

DATES: Comments should be submitted electronically by October 1, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 4, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Dade County

Gaylord House, 5208 Alton Rd., Miami Beach, SG100007060

MISSISSIPPI

Jones County

Laurel Central Historic District (Boundary Increase/Decrease), Roughly bounded by 10th and 13th Sts., 1st Ave., 7th and 5th Sts., and 8th Ave., Laurel, BC100007063

NORTH DAKOTA

Burleigh County

St. George's Episcopal Memorial Church, 601 North 4th St., Bismarck, SG100007065

PUERTO RICO

Aibonito Municipality

La Plata Community Center, (Puerto Rico Reconstruction Administration MPS), PR 173, Km. 1.5, Aibonito vicinity, MP100007066

Additional documentation has been received for the following resources:

MISSISSIPPI

Jones County

Laurel Central Historic District (Additional Documentation), Roughly bounded by 10th and 13th Sts., 1st Ave., 7th and 5th Sts., and 8th Ave., Laurel, AD86001908

NORTH CAROLINA

Jones County

Wyse Fork Battlefield (Additional Documentation), Address Restricted, Kinston vicinity, AD100001301

Lenoir County

Wyse Fork Battlefield (Additional Documentation), Address Restricted, Kinston vicinity, AD100001301

WEST VIRGINIA

Randolph County

Graham-Davis Historic District (Additional Documentation), Generally bounded by Randolph and South Randolph Aves., 11th St., Granny's Ln., and the Tygart Valley R., Elkins, AD100006396

Authority: Section 60.13 of 36 CFR part 60.

Dated: September 8, 2021.
Sherry A. Frear,
Chief, National Register of Historic Places/National Historic Landmarks Program.

[FR Doc. 2021-20012 Filed 9-15-21; 8:45 am]

BILLING CODE 4312-52-P